DEPARTMENT OF COMMERCE

National Oceanic and Atmospheric Administration

[I.D. 122006B]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Research Steering Committee in January, 2007, to consider actions affecting New England fisheries in the exclusive economic zone (EEZ). Recommendations from this group will be brought to the full Council for formal consideration and action, if appropriate.

DATES: The meeting will be held on Wednesday, January 17, 2007, at 9:30 a.m.

ADDRESSES: The meeting will be held at the Courtyard by Marriott, 32 Exchange Terrace, Providence, RI 02903; telephone: (401) 272-1191; fax: (401) 752-3042.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will receive a staff update on ongoing activities including the NOAA Fisheries Experimental Fishing Permit Guidelines in the Northeast Region. The committee also will review the NMFS-funded pilot cod industry-based survey (IBS) project in the context of similar projects completed in the New England and Mid-Atlantic regions. It will develop recommendations concerning further IBS work in New England. In addition, the committee will briefly review of the status of the pilot study fleet project and develop advice concerning next steps. The committee will have an initial discussion on 2007 research priorities and evaluate final reports completed for several cooperative research project. Other topics may be discussed at the committee's discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: December 20, 2006.
Tracey L. Thompson,
Acting Director, Office of Sustainable Fisheries, National Marine Fisheries Service.

[FR Doc. E6-22055 Filed 12-22-06; 8:45 am]

BILLING CODE 3510-22-S